DEPARTMENT OF TRANSPORTATION

Federal Aviation Administration

Aviation Rulemaking Advisory Committee; Transport Airplane and Engine Issues—New Task

AGENCY: Federal Aviation Administration (FAA), DOT.

ACTION: Notice of new task assignment for the Aviation Rulemaking Advisory Committee (ARAC).

SUMMARY: The FAA assigned the Aviation Rulemaking Advisory Committee a new task to review and submit recommendations in response to the Federal Aviation Administration's approach to update, reorganize and improve the level of safety of requirements for flammability of materials. This notice is to inform the public of this ARAC activity.

FOR FURTHER INFORMATION CONTACT: Jeff Gardlin, Airframe/Cabin Safety Branch, ANM-115, Transport Airplane Directorate, Federal Aviation Administration, 1601 Lind Avenue, SW., Renton, Washington 98057, telephone (425) 227-2194, facsimile (425) 227-1149; e-mail jeff.gardlin@faa.gov.

SUPPLEMENTARY INFORMATION:

Background

The FAA established the Aviation Rulemaking Advisory Committee to provide advice and recommendations to the FAA Administrator on the FAA's rulemaking activities with respect to aviation-related issues. This includes obtaining advice and recommendations on flammability requirements for interior materials on transport category airplanes. The committee will address the task under ARAC's Transport Airplane and Engine Issues and has established a new Materials Flammability Working Group to support this task.

The flammability requirements for interior materials on transport category airplanes have evolved significantly over the years, and have become more threat-based. That is, a realistic test method based on the type of fire hazard most critical for the components in question. Historically, these requirements were based on a mix of threat, usage (e.g., sidewall), and material type (e.g., elastomeric materials). This has led to multiple requirements applying to the same component; conflicting requirements for the same component depending on what material it is made from; and ambiguous requirements for components not explicitly listed in § 25.853 or Appendix F, part I. This last aspect results in the requirements of § 25.853 or Appendix F, part I, being obsolete whenever materials change or incomplete because components that have been developed since the regulation and Appendix F were issued are not specifically identified.

The FAA has drafted an approach that would simplify compliance demonstrations, and upgrade the level of safety for flammability throughout the airplane. The objective of the proposed approach is to completely revisit the flammability requirements and take advantage of the wealth of data available from FAA research and advances in material fire safety to provide a simpler regulation that provides a higher level of safety for transport category airplanes.

This initiative originated in response to a request by aviation industry organizations who participate in the International Aircraft Materials Fire Test Working Group. The working group is sponsored by the FAA's William J. Hughes Technical Center and is not affiliated with the ARAC.

The proposed approach would clearly delineate threat-based requirements, primarily based on a component's function and location in the airplane. Appendix F to part 25 could be organized based on these threats, and the current part I, in particular, could be greatly simplified. In addition, this approach could include new requirements pertaining to inaccessible areas of the airplane, where in-flight fire is the greatest risk, by expanding the requirements to include air ducts and electrical wiring systems, as well as other high volume materials. This could include § 25.855 for materials in cargo compartments. The approach would also generalize the requirements for heat release and smoke emissions to include all exposed large surface areas in the passenger cabin. This would eliminate the need for special conditions that are currently required for seats with non-traditional, large, non-metallic panels.

Because this task could result in a significant change to the type certification requirements, the FAA is very interested in obtaining international harmonization. Therefore, the FAA specifically invites the participation of other regulatory authorities in developing the responses to the below task.

The Task

The ARAC is asked to consider the merits of the FAA's proposed approach for a threat-based structure for part 25, Appendix F, and make recommendations for improvement, classification of the various parts of Appendix F, and advisory material necessary for implementation.

FAA will provide ARAC with the proposed approach. The ARAC working group is expected to produce a report within 18 months from publication of the tasking statement in the Federal Register. The report should address the following questions for the proposed approach, including the rationale for the responses.

1. Is the proposed threat-based approach for § 25.853 and Appendix F, parts II through VII organized correctly?

2. Is Appendix F, part I, necessary for items covered in parts II through VII?

3. Are there regions of the airplane not currently covered by flammability requirements that should be?

4. Can the flammability requirements be further simplified while maintaining or improving the existing level of safety?

5. How should non-metallic structure (e.g., airframe and seats) be addressed?

6. What advisory material is needed to implement the new structure?

Schedule: Required Completion date is 18 months after the FAA publishes the task in the Federal Register.

ARAC Acceptance of Task

ARAC accepted the task and assigned the task to the newly formed Materials Flammability Working Group, Transport Airplane and Engine Issues. The working group serves as staff to ARAC and assists in the analysis of assigned tasks. ARAC must review and approve the working group's recommendations. If ARAC accepts the working group's recommendations, it will forward them to the FAA.

Working Group Activity

The Materials Flammability Working Group must comply with the procedures adopted by ARAC. As part of the procedures, the working group must:

1. Recommend a work plan for completion of the task, including the rationale supporting such a plan for consideration at the next meeting of the ARAC on Transport Airplane and Engine Issues held following publication of this notice.

2. Give a detailed conceptual presentation of the proposed recommendations prior to proceeding with the work stated in item 3 below.

3. Draft the appropriate documents and required analyses and/or any other related materials or documents.

4. Provide a status report at each meeting of the ARAC held to consider Transport Airplane and Engine Issues.

Participation in the Working Group

The Materials Flammability Working Group will be composed of technical experts having an interest in the assigned task. A working group member need not be a member, or a representative of a member, of the full committee.

If you have expertise in the subject matter and wish to become a member of the working group, write to the person listed under the caption FOR FURTHER INFORMATION CONTACT expressing that desire. Describe your interest in the task and state the expertise you would bring to the working group. We must receive all requests by September 16, 2010. The assistant chair and the assistant executive director will review the requests and advise you whether or not your request is approved.

If you are chosen for membership on the working group, you must represent your aviation community segment and actively participate in the working group by attending all meetings, and providing written comments when requested to do so. You must devote the resources necessary to support the working group in meeting any assigned deadlines. You must keep your management chain and those you represent advised of working group activities and decisions to ensure that the proposed technical solutions don't conflict with your sponsoring organization's position when the subject being considered is presented to ARAC for approval. Once the working group has begun deliberations, members will not be added or substituted without the approval of the assistant chair, the assistant executive director and the working group chair.

The Secretary of Transportation determined that the formation and use of the ARAC is necessary and in the public interest in connection with the performance of duties imposed on the FAA by law.

Meetings of the ARAC are open to the public. Meetings of the Materials Flammability Working Group will not be open to the public, except to the extent individuals with an interest and expertise are selected to participate. The FAA will make no public announcement of working group meetings.

Issued in Washington, DC, on August 23, 2010.
Pamela Hamilton-Powell,
Executive Director, Aviation Rulemaking Advisory Committee.

[FR Doc. 2010-21333 Filed 8-26-10; 8:45 am]

BILLING CODE 4910-13-P